DEPARTMENT OF DEFENSE

Office of the Secretary

[Docket ID: DoD-2022-OS-0122]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 3, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Military Community Advocacy Directorate, Family Advocacy Program, 4800 Mark Center Drive, Suite 03G15, Alexandria, VA 22350, Dr. Najah A. Barton, (571) 236-3429.

SUPPLEMENTARY INFORMATION:

Title; Associated Form; and OMB Number: Domestic Abuse Victim Reporting Option Statement; DD Form 2967; OMB Control Number 0704-DARS.

Needs and Uses: This collection of information is necessary for documenting decisions on whether to file a restricted or unrestricted report for a victim of domestic abuse. This document is filed in accordance with the appropriate OSD and Military Department Family Advocacy Program System of Records Notice (SORN).

The information collected will be used for purposes of filing an official report. When a restricted report is filed, the victim is able to receive advocacy and counseling services without a report being made to command or law enforcement. In cases of an unrestricted report, command and law enforcement will be notified, and the victim is eligible to receive advocacy and counseling services from the Family Advocacy Program. The information collected for the form in unrestricted report cases may be used to initiate an investigation, and subsequently make an incident status determination following the Incident Determination Committee procedures and processes outlined in DoD Manual 6400.01, Volume 3. If an incident meets the definitions outlined in DoDM 6400.01, Volume 3, the incident is subject to entry into the Central Registry (DoDM 6400.01, Volume 2).

Affected Public: Individuals or households.

Annual Burden Hours: 5,000 hours.

Number of Respondents: 10,000.

Responses per Respondent: 1.

Annual Responses: 10,000.

Average Burden per Response: 30 minutes.

Frequency: On occasion.

Dated: November 1, 2022.
Aaron T. Siegel,
Alternate OSD Federal Register Liaison Officer, Department of Defense.

[FR Doc. 2022-24079 Filed 11-3-22; 8:45 am]

BILLING CODE 5001-06-P